DEPARTMENT OF HOMELAND SECURITY

Coast Guard

33 CFR Part 165

[Docket Number USCG-2025-0328]

RIN 1625-AA00

Safety Zone; Matagorda Ship Channel, Port Lavaca, TX

AGENCY: Coast Guard, DHS.

ACTION: Temporary final rule.

SUMMARY: The Coast Guard is establishing a temporary safety zone for certain navigable waters of the Matagorda Ship Channel. The safety zone is needed to protect personnel, vessels, and the marine environment from potential hazards created by the repair of submerged dredge pipeline in the Matagorda Ship Channel. Entry of vessels or persons into this zone is prohibited unless specifically authorized by the Captain of the Port, Sector Corpus Christi, or a designated representative.

DATES: For the purposes of enforcement, actual notice will be used from April 14, 2025, until April 23, 2025. This rule is effective without actual notice from April 23, 2025, through June 06, 2025. It will be subject to enforcement each day it is in effect, between the hours of 6 p.m. to 6 a.m.

ADDRESSES: To view documents mentioned in this preamble as being available in the docket, go to https://www.regulations.gov, type USCG-2025-0328 in the search box and click “Search.” Next, in the Document Type column, select “Supporting & Related Material.”

FOR FURTHER INFORMATION CONTACT: If you have questions about this rule, call or email Lieutenant Timothy Cardenas, Sector Corpus Christi Waterways Management Division, U.S. Coast Guard; telephone 361-939-5130, email Timothy.J.Cardenas@uscg.mil.

SUPPLEMENTARY INFORMATION:

I. Table of Abbreviations

CFR Code of Federal Regulations

COTP Captain of the Port, Sector Corpus Christi

DHS Department of Homeland Security

FR Federal Register

NPRM Notice of proposed rulemaking

§ Section

U.S.C. United States Code

II. Background Information and Regulatory History

The Coast Guard is issuing this temporary rule without prior notice and opportunity to comment pursuant to 5 U.S.C. 553(b). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it is impracticable. This rule is intended to protect personnel, vessels, and the marine environment from potential hazards associated with repair of a pipeline, including the deployment of heavy equipment which will obstruct vessel traffic, continuous diving operations, and various other activities which create underwater hazards for workers and the public. The Coast Guard was notified of this repair work April 7, 2025, and thus, there is insufficient time to publish an NPRM because the safety zone must be established by April 14, 2025.

In addition, the Coast Guard finds that good cause exists under 5 U.S.C. 553(d)(3) for making this rule effective less than 30 days after publication in the Federal Register. Delaying the effective date of this safety zone is impracticable because it must be in effect by April 14, 2025, when pipeline repair operations begin, to respond to potential safety hazards.

III. Legal Authority and Need for Rule

The Coast Guard is issuing this rule under authority in 46 U.S.C. 70034. The Captain of the Port, Sector Corpus Christi (COTP) has determined that hazards inherent in underwater pipeline repair activities necessitate provisions to protect personnel, vessels, and the marine environment while those activities are taking place. The activities giving rise to these hazards include the deployment of heavy equipment which will obstruct vessel traffic, continuous diving operations, and various other activities which create underwater hazards for workers and the public.

IV. Discussion of the Rule

This rule establishes a safety zone from April 14, 2025, through June 6, 2025. The rule is subject to enforcement from 6 p.m. to 6 a.m. each day it is in effect. The safety zone will cover all navigable waters near pipeline repair operations, inside the area encompassed by a line connecting the following points: beginning at Point 1: 28°34′58.78″ N, 96°33′08.69″ W; thence to Point 2: 28°35′00.96″ N, 96°32′49.79″ W; thence to Point 3: 28°35′08.91″ N, 96°33′04.94″ W; thence to Point 4: 28°35′09.87″ N, 96°32′50.23″ W; thence returning to Point 1. No vessel or person will be permitted to enter the temporary safety zone during the period in which the rule is subject to enforcement without obtaining permission from the COTP or a designated representative, who may be contacted on Channel 16 VHF-FM (156.8 MHz) or by telephone at 1-800-874-2143. The Coast Guard will issue Broadcast Notices to Mariners and Safety Marine Information Broadcasts to inform the public of these restrictions.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size, location, and duration of the safety zone. The safety zone covers less than 1 square mile area of the Matagorda Ship Channel in Texas and will be enforced during overnight hours when there is less traffic. The temporary safety zone will be subject to enforcement for a period of 12 consecutive hours each day of the period, from April 14, 2025, to June 6, 2025. Vessels may be allowed to transit through the zone during the enforcement period with the prior approval of the COTP.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial, direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f) and have determined that this action is one of a category of actions that do not individually or cumulatively have a significant effect on the human environment. This rule involves establishment of a temporary safety zone for navigable waters in the Matagorda Ship Channel lasting 12 hours per day for 54 days. The safety zone is needed to protect personnel, vessels, and the marine environment from potential hazards created by submerged pipeline repair activities that may include deployment of heavy equipment which will obstruct vessel traffic, continuous diver's operations, and various other activities which create underwater hazards while people are working. It is categorically excluded from further review under paragraph L60(a), in Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165-REGULATED NAVIGATION AREAS AND LIMITED ACCESS AREAS

1. The authority citation for part 165 continues to read as follows:

Authority: 46 U.S.C 70034, 70051, 70124; 33 CFR 1.05-1, 6.04-1, 6.04-6, and 160.5; Department of Homeland Security Delegation No. 00170.1, Revision No. 01.3.

2. Add § 165.T08-0328 to read as follows:

§ 165.T08-0328 Safety Zone; Matagorda Ship Channel, Port Lavaca, TX

(a) Location. The safety zone includes all navigable waters of the Matagorda Ship Channel, from the surface to bottom, encompassed by a line connecting the following points: beginning at Point 1: 28°34′58.78″ N, 96°33′08.69″ W; thence to Point 2: 28°35′00.96″ N, 96°32′49.79″ W; thence to Point 3: 28°35′08.91″ N, 96°33′04.94″ W; thence to Point 4: 28°35′09.87″ N, 96°32′50.23″ W; thence returning to Point 1. These coordinates are based on World Geodetic System (WGS) 84.

(b) Enforcement period. This section will be subject to enforcement from 6 p.m. to 6 a.m. each day in the period, from April 14, 2025, through June 6, 2025.

(c) Regulations. (1) In accordance with the general regulations in § 165.23, entry into the temporary, fixed safety zone described in paragraph (a) is prohibited unless authorized by the COTP or a designated representative. They may be contacted on Channel 16 VHF-FM (156.8 MHz) or by telephone at 361-939-0450.

(2) If permission is granted, all persons and vessels shall comply with the instructions of the COTP or designated representative.

(d) Information broadcasts. The COTP or a designated representative will inform the public of the enforcement times and date for this safety zone through Broadcast Notices to Mariners and Safety Marine Information Broadcasts.

Dated: April 11, 2025.
Torrey H. Bertheau,
Captain, U.S. Coast Guard, Captain of the Port, Sector Corpus Christi.

[FR Doc. 2025-06947 Filed 4-22-25; 8:45 am]

BILLING CODE 9110-04-P